DEPARTMENT OF TRANSPORTATION

Federal Aviation Administration

Notice of Intent To Rule on Request To Release Airport Property at Monroe Regional Airport, Monroe, LA.

AGENCY: Federal Aviation Administration (FAA) DOT.

ACTION: Request for public comment.

SUMMARY: The FAA proposes to rule and invites public comment on the release of land at Monroe Regional Airport under the provisions of title 49, U.S.C. section 47153(c).

DATES: Comments must be received on or before March 14, 2008.

ADDRESSES: Comments on this application may be mailed or delivered to the FAA at the following address: Mr. Lacey D. Spriggs, Manager, Federal Aviation Administration, Southwest Region, Airports Division, LA/NM Airports Development Office, ASW-640, Fort Worth, Texas 76193-0640.

In addition, one copy of any comments submitted to the FAA must be mailed or delivered to Mayor James E. Mayo at the following address: Office of the Mayor, P.O. Box 123, Monroe, LA 71210.

FOR FURTHER INFORMATION CONTACT: Lacey D. Spriggs, Manager, Federal Aviation Administration, LA/NM Airports Development Office, ASW-640, 2601 Meacham Blvd., Fort Worth, Texas 76193-0640.

The request to release property may be reviewed in person at this same location.

SUPPLEMENTARY INFORMATION: The FAA invites public comment on the request to release property at the Monroe Regional Airport.

On February 4, 2008, the FAA determined that the request to release property at Monroe Regional Airport submitted by the City of Monroe met the procedural requirements of the Federal Aviation Regulations, Part 155. The FAA may approve the request, in whole or in part, no later than March 17, 2008.

The following is a brief overview of the request: The City of Monroe, Louisiana requests the release of 14.378 acres of airport property. The release of property will allow for construction of a new facility for storage of materials and supplies, which would serve as a warehouse for Sol's Pipe & Steel, Inc., to proceed. The sale is estimated to provide $160,700.00, whereas the proceeds will go toward construction of the new Terminal Building on the airport.

Any person may inspect the request in person at the FAA office listed above under FOR FURTHER INFORMATION CONTACT.

In addition, any person may, upon request, inspect the application, notice, and other documents germane to the application in person at the Monroe Regional Airport, Monroe, Louisiana.

Issued in Fort Worth, Texas on February 4, 2008.
Kelvin L. Solco,
Manager, Airports Division.

[FR Doc. 08-619 Filed 2-12-08; 8:45 am]

BILLING CODE 4910-13-M